NUCLEAR REGULATORY COMMISSION

[Docket Nos. 50-317 and 50-318]

Calvert Cliffs Nuclear Power Plant, Inc.; Calvert Cliffs Nuclear Power Plant, Unit Nos. 1 and 2 Environmental Assessment and Finding of No Significant Impact

The U.S. Nuclear Regulatory Commission (NRC or the Commission) is considering issuance of an exemption from Title 10 of the Code of Federal Regulations (10 CFR) Part 50, Appendix E, Section IV.F.2.c for renewed Facility Operating Licenses Nos. DPR-53 and DPR-69, issued to Calvert Cliffs Nuclear Power Plant, Inc. (CCNPPPI or the licensee), for operation of the Calvert Cliffs Nuclear Power Plant, Units Nos. 1 and 2, located in Calvert County, Maryland. Therefore, as required by 10 CFR 51.21, the NRC is issuing this environmental assessment and finding of no significant impact.

Environmental Assessment

Identification of the Proposed Action

The proposed action, as described in the licensee's application for a one-time exemption to the requirements of 10 CFR Part 50, Appendix E, Section F.2.c, dated November 24, 2003, would allow the licensee to reschedule the planned offsite full-participation emergency exercise from 2003 to 2004 and subsequent exercises would be scheduled biennially from the year 2003.

The Need for the Proposed Action

The proposed exemption from 10 CFR Part 50, Appendix E, Section IV.F.2.c is needed because the planned full-participation exercise scheduled for October 21, 2003, was not able to be performed. Preparation for Hurricane Isabel and subsequent recovery efforts had consumed Maryland Emergency Management Agency (MEMA) and other local and State agencies having a role under the Emergency Response Plan such that full-participation was not able to be performed.

Environmental Impacts of the Proposed Action

The NRC has completed its evaluation of the proposed action and concludes that the proposed exemption will not present an undue risk to the public health and safety. The details of the staff's Safety Evaluation will be provided in the exemption that will be issued as part of the letter to the licensee approving the exemption to the regulation. The action relates to the exercising of the emergency response plan which has no effect on the operation of the facility.

The proposed action will not significantly increase the probability or consequences of accidents, no changes are being made in the types, or amounts of effluents that may be released off site, and there is no significant increase in occupational or public radiation exposure. Therefore, there are no significant radiological environmental impacts associated with the proposed action.

In regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for the Calvert Cliffs Nuclear Power Plant (CCNPP) dated April 1973 or the Final Environmental Impact Statement for licence renewal for the CCNPP dated October 1999.

Agencies and Persons Consulted

On December 4, 2003, the staff consulted with the Maryland State official, Richard McLean of the Maryland Department of the Environment, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated November 24, 2003. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 16th day of December 2003.
For the Nuclear Regulatory Commission.
Richard J. Laufer,
Chief, Section 1, Project Directorate I, Division of Licensing Project Management, Office of Nuclear Reactor Regulation.

[FR Doc. 03-31424 Filed 12-19-03; 8:45 am]

BILLING CODE 7590-01-P